ENVIRONMENTAL PROTECTION AGENCY

[FRL OP-OFA-196]

Environmental Impact Statements; Notice of Availability

Responsible Agency: Office of Federal Activities, General Information 202-993-3272 or https://www.epa.gov/nepa.

Weekly receipt of Environmental Impact Statements (EIS)

Filed September 8, 2025 10 a.m. EST Through September 15, 2025 10 a.m. EST

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250132, Final, FHWA, HI, Honoapiilani Highway Improvements Environmental Impact Statement, Review Period Ends: 10/20/2025, Contact: Richelle Takara 808-541-2311.

EIS No. 20250133, Final, NMFS, PRO, Identification of Aquaculture Opportunity Areas in U.S. Federal Waters of the Gulf of America, Contact: Andrew Richard 727-551-5709.

EIS No. 20250134, Draft, FERC, CA, Dam Retrofit and Surrender re the Anderson Dam Hydroelectric Project Exemption, Comment Period Ends: 11/03/2025, Contact: Office of External Affairs 866-208-3372.

EIS No. 20250135, Final, NMFS, CA, Identification of Aquaculture Opportunity Areas in U.S. Federal Waters off of Southern California, Contact: Celia Barroso 562-432-1850.

EIS No. 20250136, Final, USACE, MD, Sparrows Point Container Terminal, Contact: Maria N. Teresi 410-375-0398.

EIS No. 20250137, Draft, USACE, NC, Wilmington Harbor Navigation Project, Comment Period Ends: 11/03/2025, Contact: Andrea Stolba 910-882-4936.

Dated: September 16, 2025.
Nancy Abrams,
Associate Director, Office of Federal Activities.

[FR Doc. 2025-18175 Filed 9-18-25; 8:45 am]

BILLING CODE 6560-50-P